DEPARTMENT OF TRANSPORTATION

Federal Aviation Administration

14 CFR Part 71

[Docket No. FAA-2022-0245; Airspace Docket No. 19-AAL-49]

RIN 2120-AA66

Establishment of United States Area Navigation (RNAV) Route T-380; Emmonak, AK

AGENCY: Federal Aviation Administration (FAA), DOT.

ACTION: Final rule, delay of effective date.

SUMMARY: This action delays the effective date of a final rule published in the Federal Register on November 28, 2022, establishing area navigation (RNAV) route T-380 in the vicinity of Emmonak, AK. The FAA is delaying the effective date to allow sufficient time for completion of the required flight inspection of the route.

DATES: The effective date of the final rule published on November 28, 2022 (87 FR 72871) is delayed until further notice. The FAA will publish a document in the Federal Register announcing the new effective date. The Director of the Federal Register approved this incorporation by reference action under 1 CFR part 51, subject to the annual revision of FAA Order JO 7400.11 and publication of conforming amendments.

FOR FURTHER INFORMATION CONTACT: Paul Gallant, Rules and Regulations Group, Office of Policy, Federal Aviation Administration, 800 Independence Avenue SW, Washington, DC 20591; telephone: (202) 267-8783.

SUPPLEMENTARY INFORMATION:

Background

The FAA published a final rule in the Federal Register for Docket No. FAA-2022-0245 (87 FR 72871, November 28, 2022), establishing RNAV route T-380 in the vicinity of Emmonak, AK. The effective date for that final rule is April 20, 2023. Subsequent to the final rule, it was determined that the required flight inspection of T-380 was not completed due to weather conditions. The onset of winter weather conditions in Alaska will further impact the completion of flight inspections.

To facilitate the safe and continuous use of existing air traffic procedures and allow sufficient time for completion of the required flight inspection of route T-380, the effective date of this rule is delayed until further notice. The FAA will publish a document in the Federal Register announcing the new effective date.

Delay of Effective Date

Accordingly, pursuant to the authority delegated to me, the effective date of the final rule, Airspace Docket No. 19-AAL-49, as published in the Federal Register on November 28, 2022 (87 FR 72871), is hereby delayed until further notice.

Authority: 49 U.S.C. 106(f), 106(g); 40103, 40113, 40120; E.O. 10854, 24 FR 9565, 3 CFR, 1959-1963 Comp., P. 389.

* * * * *

Issued in Washington, DC, on March 3, 2023.
Brian Konie,
Acting Manager, Airspace Rules and Regulations.

[FR Doc. 2023-04769 Filed 3-8-23; 8:45 am]

BILLING CODE 4910-13-P